NATIONAL AERONAUTICS AND SPACE ADMINISTRATION

[Notice 08-008]

NASA Advisory Council; Meeting

AGENCY: National Aeronautics and Space Administration.

ACTION: Notice of meeting.

SUMMARY: In accordance with the Federal Advisory Committee Act, Public Law 92-463, as amended, the National Aeronautics and Space Administration announces a meeting of the NASA Advisory Council. The agenda for the meeting includes updates from each of the Council committees, including discussion and deliberation of potential recommendations. The Council Committees address NASA interests in the following areas: Aeronautics, Audit and Finance, Space Exploration, Human Capital, Science, and Space Operations.

DATES: Thursday, February 7, 2008, 9:15 a.m.-5 p.m.

ADDRESSES: National Aeronautics and Space Administration, 300 E Street, SW., Rooms 3P44/3P50, James E. Webb Memorial Auditorium (overflow room), NASA Headquarters, Washington, DC 20546.

FOR FURTHER INFORMATION CONTACT: Mr. Paul A. Iademarco, Designated Federal Official, National Aeronautics and Space Administration, Washington, DC 20546, 202/358-1318.

SUPPLEMENTARY INFORMATION: The meeting will be open to the public up to the seating capacity of the rooms with additional seating capacity in the James E. Webb Auditorium. It is imperative that the meeting be held on this date to accommodate the scheduling priorities of the key participants. Attendees will be required to sign a register and to comply with NASA security requirements, including the presentation of a valid picture ID, before receiving an access badge. All attendees will need to provide the following information to receive an access badge: Full name; gender; date/place of birth; citizenship; employer/affiliation information (name of institution, address, county, phone) and title/position. Foreign Nationals will need to provide the following additional information; visa/green card information (number, type, expiration date). To expedite admittance, attendees can provide their identifying information in advance by contacting Ms. Marla K. King via e-mail at marla.k.king@nasa.gov or by telephone at (202) 358-1148. Persons with disabilities who require assistance should indicate this.

Dated:January 15, 2008.
P. Diane Rausch,
Advisory Committee Management Officer, National Aeronautics and Space Administration

[FR Doc. E8-1070 Filed 1-22-08; 8:45 am]

BILLING CODE 7510-13-P